DEPARTMENT OF TRANSPORTATION

Federal Aviation Administration

Notice of Extension of Public Scoping Comment Period for the Air Tour Management Plan Program at Golden Gate National Recreation Area, San Francisco Maritime National Historical Park and Point Reyes National Seashore

AGENCY: Federal Aviation Administration (FAA), DOT.

ACTION: Notice of extension of public scoping comment period for the Air Tour Management Plan Program at Golden Gate National Recreation Area, San Francisco Maritime National Historical Park and Point Reyes National Seashore.

This notice extends the public scoping comment period for the Air Tour Management Plan (ATMP) for Golden Gate National Recreation Area (GGNRA) and Point Reyes National Seashore (the Seashore) that was published in the Federal Register on July 28, 2011 (76 FR 45312). The original date that the comment period would end was September 28, 2011. During that time the National Park Service (NPS) Planning, Environment and Public Comment Web site (PEPC) experienced some technical complications that made it difficult for everyone's comments to be captured on the system. That public scoping comment period date will now be extended until October 21, 2011.

The FAA, with NPS as a cooperating agency, has initiated development of ATMPs for GGNRA and the Seashore. The ATMP for GGNRA will include Muir Woods National Monument and Fort Point National Historic Site, both directly managed by GGNRA, and the San Francisco Maritime National Historical Park (SF Maritime NHP), an independently managed national park unit adjacent to GGNRA.

The ATMPs are being developed pursuant to the National Parks Air Tour Management Act (NPATMA) of 2000 (Pub. L. 106-181) and it's implementing regulations (14 Code of Federal Regulation [CFR] part 136, Subpart B, National Parks Air Tour Management). Per section 40128(b)(1)(B) of NPATMA, the objective of an ATMP shall be to develop acceptable and effective measures to mitigate or prevent significant adverse impacts, if any, of commercial air tour operations upon the natural and cultural resources, visitor experiences and tribal lands within or abutting GGNRA and the Seashore. It should be noted that an ATMP has no authorization over other non-air-tour operations such as military and general aviation. In compliance with the National Environmental Policy Act of 1969 (NEPA) and FAA Order 1050.1E, an Environmental Assessment (EA) is being prepared.

The FAA has granted Interim Operating Authority (IOA) to two commercial air tour operators to conduct air tours over GGNRA, SF Maritime NHP, and the Seashore.

The FAA and NPS are now inviting the public, agencies, tribes, and other interested parties to provide comments, suggestions, and input on the scope of issues and range of alternatives to be addressed in the environmental process.

DATES: By this notice, the FAA is extending the public scoping comment period for the EA for the individual ATMPs at GGNRA and SF Maritime NHP, and the Seashore. The original date that the comment period would end was September 28, 2011. That date will now be extended until October 21, 2011.

FOR FURTHER INFORMATION CONTACT: Keith Lusk—Mailing address: P.O. Box 92007, Los Angeles, California 90009-2007. Telephone: (310) 725-3808. Street address: 15000 Aviation Boulevard, Lawndale, California 90261. Written comments on the scope of the EA should be submitted electronically via the electronic public comment form on the NPS Planning, Environment and Public Comment Web site at: http://parkplanning.nps.gov/BayArea_ATMP or sent to the mailing address above.

SUPPLEMENTARY INFORMATION: A public scoping packet that describes the project in greater detail is available at:

• http://parkplanning.nps.gov/BayArea_ATMP.

• http://www.faa.gov/about/office_org/headquarters_offices/arc/programs/air_tour_management_plan/.

Notice Regarding FOIA: Individuals may request that their name and/or address be withheld from public disclosure. If you wish to do this, you must state this prominently at the beginning of your comment. Commentators using the Web site can make such a request by checking the box “keep my contact information private.” Such requests will be honored to the extent allowable by law, but you should be aware that pursuant to the Freedom of Information Act, your name and address may be disclosed. We will make all submissions from organizations, businesses, and from individuals identifying themselves as representatives or officials of organizations or businesses available for public inspection in their entirety.

Issued in Hawthorne, CA on September 29, 2011.
Larry Tonish,
Program Manager, Special Programs Staff, Western-Pacific Region.

[FR Doc. 2011-25906 Filed 10-6-11; 8:45 am]

BILLING CODE 4910-13-P